DEPARTMENT OF THE INTERIOR

National Park Service

60 Day Notice of Intention To Request Clearance of Collection of Information; Opportunity for Public Comment

AGENCY: National Park Service, Department of the Interior, Golden Gate National Recreation Area.

ACTION: Notice and request for comments.

SUMMARY: The Golden Gate National Recreation Area (GGNRA) is a national park which comprises over 76,000 acres of coastal lands spanning three California counties: Marin, San Francisco and San Mateo. GGNRA is proposing to conduct survey interview in peak, shoulder and off-peak season of calendar year 2000, and possibly through Spring 2001, to identify the market viability and specific visitor flow information for operationlizing recreational ferry services to sites within the GGNRA on San Francisco Bay such as Ft. Baker, Crissy Field (Presidio) and Ft. Mason. The results of these surveys will be used to develop alternative plans for a possible ferry service and to forecast potential demand for water shuttle access to GGNRA's sites, as well as land-based transit connections. Intercept interviews will be conducted at 5 park sites and at least 2 non-park sites. Telephone surveys will be conducted in 3-4 counties surrounding the park to determine latent demand for ferry service, and under what conditions such service might be used.

| Estimated number of: Responses | Estimated number of: Burden hours
GGNRA Water Shuttle Access Plan: | 1400 | 240
Telephone Interviews
GGNRA Water Shuttle Access Plan: | 8400 | 700
Intercept Surveys
Total | 9800 | 940

Under provisions of the Paperwork Reduction Act of 1995 and 5 CFR Part 1320, Reporting and Record Keeping Requirements, the National Park Service (NPS) is soliciting comments on: (a) Whether the collection of information is necessary for such a reliable and valid market analyses and to support the proper performance of the functions of the GGNRA in evaluating the best alternative operations in the interest of the government and the general public, including whether the information will have practical utility; (b) the accuracy of the NPS estimate of the burden of the collection of information, including the validity of the methodology and assumptions used; (c) the quality, utility, and clarity of the information to be collected; and (d) how to minimize the burden of the collection of information on those who are to respond, while maintaining an unbiased sample, including the use of appropriate automated, electronic, mechanical, or other forms of information technology.

DATES: Public comments will be accepted on or before June 19, 2000.

SEND COMMENTS TO: GGNRA, Attn. Mike Savidge, Bay and Franklin St., Bldg., 201, Ft. Mason, San Francisco, CA 94123.

FOR FURTHER INFORMATION CONTACT: Mike Savidge at (415) 561-4725.

SUPPLEMENTARY INFORMATION: Title: Scope of Work for Water Shuttle Access Plan.

Bureau Form Number: None.

OMB Number: To be requested.

Expiration Date of Approval: To be requested.

Type of Request: Request for new clearance.

Description of Need: The Metropolitan Transportation Commission (MTC) of the San Francisco Bay Area has identified updated data collection and surveys of this nature as critical to the foundation of improving alternative transportation access to GGNRA, and particularly to the feasibility of developing a potential water shuttle service to park sites. GGNRA has also been identified as one of five national park demonstration sites to improve alternative transportation access through a coordinated program with the U.S. Department of Transportation (DOT) because of its over 15 million visitors per year. To support these efforts, GGNRA needs information to better develop ridership potential to alternate park sites, and to determine the specific market feasibility and operational plans for alternative modes of access to GGNRA sites, particularly by ferry service. Such a need was identified in a GGNRA Travel Study completed in 1977 and remains today. GGNRA seeks to acquire this information in order to plan for increasing alternative access modes to the park and to decongest the critical roadway corridors to park sites such as the Golden Gate Bridge and Rt. 101 which result in both extensive traffic delays for visitors and other residents.

Automated Data Collection: At the present time, there is no automated way to gather this information, since the information gathering process involves asking visitors and/or the general public to identify characteristics, use patterns, expectations, preferences and perceptions that are relevant to a study of ferry service. Computerized responses could not be controlled for bias as intercept and random digit dialing surveys can be.

Description of respondents: Intercept interviews will be conducted with a random sample of individuals who visit GGNRA sites to include Alcatraz, Muir Woods, Presidio, Ft. Mason and the Marin Headlands. Intercept interviews will also be conducted at non-park sites in San Francisco and the East Bay with a random sample of individuals who are not visiting GGNRA. Telephone surveys will be conducted with a random sample of residents of the Counties of San Francisco, Alameda and one or two other counties surrounding the Bay as yet unselected.

Estimated average number of respondents: 1400 (completed telephone interviews); 8400 (completed intercept interviews).

Estimated average number of responses: Each respondent will respond only one time, so the number of responses will be the same as the number of respondents.

Estimated average burden hours per response: 10 minutes (telephone interviews); 5 minutes (intercept surveys).

Frequency of Response: 1 time per respondent.

Estimated annual reporting burden: 940 hours.

Dated: April 13, 2000.
Betsy Chittenden,
Information Collection Clearance Officer, WASO Administrative Program Center, National Park Service.

[FR Doc. 00-9707 Filed 4-18-00; 8:45 am]

BILLING CODE 4310-70-M